DEPARTMENT OF COMMERCE

International Trade Administration

Initiation of Antidumping and Countervailing Duty Administrative Reviews and Requests for Revocation in Part

AGENCY: Import Administration, International Trade Administration, Department of Commerce.

ACTION: Notice of initiation of antidumping and countervailing duty administrative reviews and requests for revocation in part.

SUMMARY: The Department of Commerce (the Department) has received requests to conduct administrative reviews of various antidumping and countervailing duty orders and findings with February anniversary dates. In accordance with the Department's regulations, we are initiating those administrative reviews. The Department of Commerce also received requests to revoke four antidumping duty orders in part.

EFFECTIVE DATE: March 25, 2003.

FOR FURTHER INFORMATION CONTACT: Holly A. Kuga, Office of AD/CVD Enforcement, Import Administration, International Trade Administration, U.S. Department of Commerce, 14th Street and Constitution Avenue, NW., Washington, DC 20230, telephone: (202) 482-4737.

SUPPLEMENTARY INFORMATION:

Background

The Department has received timely requests, in accordance with 19 CFR 351.213(b)(2002), for administrative reviews of various antidumping and countervailing duty orders and findings with February anniversary dates. The Department also received timely requests to revoke in part the antidumping duty orders on Stainless Steel Bar from India, Stainless Steel Flanges from India, Mechanical Transfer Presses from Japan and Heavy Forged Hand Tools (bars/wedges, and hammers/sledges) from the People's Republic of China.

Initiation of Reviews

In accordance with section 19 CFR 351.221(c)(1)(i), we are initiating administrative reviews of the following antidumping and countervailing duty orders and findings. We intend to issue the final results of these reviews not later than February 28, 2004.

| Period to be reviewed
Antidumping Duty Proceedings
France: Low Enriched Uranium—A-427-818 | 7/13/01-1/31/03
Eurodif S.A.
India: Certain Preserved Mushrooms—A-533-813 | 2/1/02-1/31/03
Agro Dutch Foods, Ltd.
Alpine Biotech, Ltd.
Dinesh Argo Products Ltd.
Flex Foods, Ltd.
Himalaya International, Ltd.
Mandeep Mushrooms, Ltd.
Premier Mushroom Farms
Saptarishi Agro Industries, Ltd.
Weikfield Agro Products, Ltd.
India: Forged Stainless Steel Flanges—A-533-809 | 2/1/02-1/31/03
Chandan Steel Ltd.
Isibars, Ltd.
Shree Ganesh Forging
Viraj Group
India: Stainless Steel Bar—A-533-810 | 2/1/02-1/31/03
Chandan Steel Ltd.
FACOR
Isibars Limited
Jyoti Steel Industries
Mukand
Venus Wire Industries Limited
Viraj Group
Japan: Mechanical Transfer Presses—A-588-810 | 2/1/02-1/31/03
Hitachi Zosen Corporation and Hitachi Zosen Fukui Corporation d/b/a/ H&F Corporation
Malaysia: Stainless Steel Butt-Weld Pipe Fittings—A-557-809 | 2/1/02-1/31/03
Schulz (Mfg.) Sdn. Bhd.
Republic of Korea: Certain Cut-to-Length Carbon-Quality Steel Plate—A-580-836 | 2/1/02-1/31/03
Dongkuk Steel Mill Co., Ltd.
KISCO—Korea Iron & Steel Co., Ltd.
Union Steel Manufacturing Co.
Republic of Korea: Stainless Steel Butt-Weld Pipe Fittings—A-580-813 | 2/1/02-1/31/03
TK Corporation
SungKwang Bend Co., Ltd.
Sam Sung Stainless Commerce & Ind. Co., Ltd.
The People's Republic of China: Axes/adzes*—A-570-803 | 2/1/02-1/31/03
Adamant
Baogui South/North Tools Shop
BND Co., Ltd.
Changlu Hardware Goods Factory
Changzhou Light Industrial Tools Works
Changzhou Satellite Metal Products Co., Ltd.
Changzhou Xinhua Metal Factory
China Hunan Jiahe General Forging Factory
China National Import and Export Corp. (CMC)
Dawn International Trade Co., ltd.
Easyuse Tools Industrial Co., Ltd.
Feixian Harewaretool Factory
Ferly Pacific Trading (Ningbo) Co., Ltd.
Fujian Machinery and Equipment Import and Export Corp. (FMEC)
G & M Hardware Tools Co., Ltd.
Handysmart Enterprises
Hangzhou Donghua Power Transmission Import & Export Co., Ltd.
Huanyu Hardware Tools Factory
Hebei Huatai Import & Export Corp.
Hebei Machinery Import & Export Corp.
Henan Jiaozuo Foreign Trade Corp.
Henan Jinan Agriculture Production Corp.
Hua Guang Hoe Factory of Jiahe Hunan Province
Huadu Light Industry Co., Ltd.
Huanyu Hardware Tools Factory
Hubei Province Manufactory of Export Agricultural Tools
Hunan Xinyu Native Produce and Animal By-Products Import & Export Ltd.
JY International Corp.
JB International Trading Co., Ltd.
Jiangsu Guotai International Group HUATAI Imp. & Exp. Co., Ltd.
Jiangsu Hongbao Group Co., Ltd.
Jiangsu Jurong Tools Factory
Jiangsu Tongrun M & E Group Import & Export Co., Ltd.
Jinhua Runua Foreign Trade Co., Ltd.
Jinhua Twin Star Tools Corporation Limited
Liawu
Laoling Pangu Tools
Laoling Zhengtai
Liaoning Machinery Import and Export Corp. (LMC)
LIMAC
Linshu Goldstar Group Co., Ltd.
Linshu Jinrun Ironware & Tools Co., Ltd.
Linyi Guoxin Tools Co., Ltd.
Longcheng Tools Group
Longway Tools Company, Ltd.
Maofa
Ningbo Feiyuan International Trade Co., Ltd.
Ningbo Tiangong Tools Company, Ltd.
Ningbo Tiger Handware Manufacture Co.
Pangu Tools Co., Ltd.
Remein
Saintly International Group Jiangsu Machinery Import & Export Corp., Ltd.
Shaanxi Machinery I/E Corp Sunway Engineering Supply Co.
Shandong Furun Co., Ltd.
Shandong Huarong General Group Corp (Huarong)
Shandong Jinma Industrial Group Company (Jinma)
Shandong Junan Jinli Tool Co.
Shandong Laoling Tools Factory
Shandong Linyi Huanyu Hartware Tools
Shandong Machinery Import & Export Corp Hangzhou Office
Shandong Machinery Import and Export Corporation (SMC)
Shandong Pangu Tools Co., Ltd. (Laoling Pangu)
Shandong Rizhao Import & Export Corp.
Shandong Technical Import and Export Corporation
Shanghai Founder Co., Ltd.
Shanghai J.E. Tools
Shanghai Tongrun Import & Export Co., Ltd.
Shenzhen Orbit Industrial Development Co., Ltd.
Shenzhen Sino-Tech Enterprise Development Co., Ltd.
Stanley (Zhongshan) Hardware Co., Ltd.
Sun-Rain Stationery & Gifts Co., Ltd.
Taian Foreign Trading General Corp.
Technology Import & Export Corp.
Tianjin Machinery Imp. & Exp. Group
Tianjin Machinery Import and Export Corporation (TMC)
TRTOOLS
Wuxi Honghong Trade Co.
Xian Zenith
Xuzhou Golden Tiger Tools Making Co., Ltd.
Yansheng International Trade Co., Ltd.
Yee Hing Industry Co.
Yongkang Tianfang Trade & Industry Co., Ltd.
Yongkang Zhiying Xindong Stainless Steel Appliance Factory
Zhangjiagang Free Trade Zone Tianrui Int'l Trade Co., Ltd.
Zhejian Yongkang Bugao Hardware Tools Manufacture Co., Ltd.
Zhejiang Shaoxing Hardware's Tools Factory
Zhejiang Yongkang Bugao Hardware & Tools Manufacture Co.
Zhejiang Yongkang Jinchui Tools Co., Ltd.
Zhejiang Yongkang Steel Magnesium Co., Ltd.
Zhejiang Yongkang Zhengfa Mechanical Manufacturing Company
Zhenkiang All Joy Light Industrial Products & Textiles Import & Export Co., Ltd.
Zhenjiang Foreign Trade Group Corp.
Zibo International Economic and Technical Coop. Corp.
The People's Republic of China: Bars/wedges*—A-570-803 | 2/1/02-1/31/03
Adamant
Baogui South/North Tools Shop
BND Co., Ltd.
Changlu Hardware Goods Factory
Changzhou Light Industrial Tools Works
Changzhou Satellite Metal Products Co., Ltd.
Changzhou Xinhua Metal Factory
China Hunan Jiahe General Forging Factory
China National Import and Export Corp. (CMC)
Dawn International Trade Co., Ltd.
Easyuse Tools Industrial Co., Ltd.
Feixian Harewaretool Factory
Ferly Pacific Trading (Ningbo) Co., Ltd.
Fujian Machinery and Equipment Import and Export Corp. (FMEC)
G & M Hardware Tools Co., Ltd.
Handysmart Enterprises
Hangzhou Donghua Power Transmission Import & Export Co., Ltd.
Huanyu Hardware Tools Factory
Hebei Huatai Import & Export Corp.
Hebei Machinery Import & Export Corp.
Henan Jiaozuo Foreign Trade Corp.
Henan Jinan Agriculture Production Corp.
Hua Guang Hoe Factory of Jiahe Hunan Province
Huadu Light Industry Co., Ltd.
Huanyu Hardware Tools Factory
Hubei Province Manufactory of Export Agricultural Tools
Hunan Xinyu Native Produce and Animal By-Products Import & Export Ltd.
JY International Corp.
JB International Trading Co., Ltd.
Jiangsu Guotai International Group HUATAI Imp. & Exp. Co., Ltd.
Jiangsu Hongbao Group Co., Ltd.
Jiangsu Jurong Tools Factory
Jiangsu Tongrun M & E Group Import & Export Co., Ltd.
Jinhua Runua Foreign Trade Co., Ltd.
Jinhua Twin Star Tools Corporation Limited
Liawu
Laoling Pangu Tools
Laoling Zhengtai
Liaoning Machinery Import and Export Corp. (LMC)
LIMAC
Linshu Goldstar Group Co., Ltd.
Linshu Jinrun Ironware & Tools Co., Ltd.
Linyi Guoxin Tools Co., Ltd.
Longcheng Tools Group
Longway Tools Company, Ltd.
Maofa
Ningbo Feiyuan International Trade Co., Ltd.
Ningbo Tiangong Tools Company, Ltd.
Ningbo Tiger Handware Manufacture Co.
Pangu Tools Co., Ltd.
Remein
Saintly International Group Jiangsu Machinery Import & Export Corp., Ltd.
Shaanxi Machinery I/E Corp Sunway Engineering Supply Co.
Shandong Furun Co., Ltd.
Shandong Huarong General Group Corp (Huarong)
Shandong Jinma Industrial Group Company (Jinma)
Shandong Junan Jinli Tool Co.
Shandong Laoling Tools Factory
Shandong Linyi Huanyu Hartware Tools
Shandong Machinery Import & Export Corp Hangzhou Office
Shandong Machinery Import and Export Corporation (SMC)
Shandong Pangu Tools Co., Ltd. (Laoling Pangu)
Shandong Rizhao Import & Export Corp.
Shandong Technical Import and Export Corporation
Shanghai Founder Co., Ltd.
Shanghai J.E. Tools
Shanghai Tongrun Import & Export Co., Ltd.
Shenzhen Orbit Industrial Development Co., Ltd.
Shenzhen Sino-Tech Enterprise Development Co., Ltd.
Stanley (Zhongshan) Hardware Co., Ltd.
Sun-Rain Stationery & Gifts Co., Ltd.
Taian Foreign Trading General Corp.
Technology Import & Export Corp.
Tianjin Machinery Imp & Exp Group
Tianjin Machinery Import and Export Corporation (TMC)
TRTOOLS
Wuxi Honghong Trade Co.
Xian Zenith
Xuzhou Golden Tiger Tools Making Co., Ltd.
Yansheng International Trade Co., Ltd.
Yee Hing Industry Co.
Yongkang Tianfang Trade & Industry Co., Ltd.
Yongkang Zhiying Xindong Stainless Steel Appliance Factory
Zhangjiagang Free Trade Zone Tianrui Int'l Trade Co., Ltd.
Zhejian Yongkang Bugao Hardware Tools Manufacture Co., Ltd.
Zhejiang Shaoxing Hardware's Tools Factory
Zhejiang Yongkang Bugao Hardware & Tools Manufacture Co.
Zhejiang Yongkang Jinchui Tools Co., Ltd.
Zhejiang Yongkang Steel Magnesium Co., Ltd.
Zhejiang Yongkang Zhengfa Mechanical Manufacturing Company
Zhenkiang All Joy Light Industrial Products & Textiles Import & Export Co., Ltd.
Zhenjiang Foreign Trade Group Corp.
Zibo International Economic and Technical Coop. Corp.
The People's Republic of China: Hammers/sledges*—A-570-803 | 2/1/02-1/31/03
Adamant
Baogui South/North Tools Shop
BND Co., Ltd.
Changlu Hardware Goods Factory
Changzhou Light Industrial Tools Works
Changzhou Satellite Metal Products Co., Ltd.
Changzhou Xinhua Metal Factory
China Hunan Jiahe General Forging Factory
China National Import and Export Corp. (CMC)
Dawn International Trade Co., Ltd.
Easyuse Tools Industrial Co., Ltd.
Feixian Harewaretool Factory
Ferly Pacific Trading (Ningbo) Co., Ltd.
Fujian Machinery and Equipment Import and Export Corp. (FMEC)
G & M Hardware Tools Co., Ltd.
Handysmart Enterprises
Hangzhou Donghua Power Transmission Import & Export Co., Ltd.
Huanyu Hardware Tools Factory
Hebei Huatai Import & Export Corp.
Hebei Machinery Import & Export Corp.
Henan Jiaozuo Foreign Trade Corp.
Henan Jinan Agriculture Production Corp.
Hua Guang Hoe Factory of Jiahe Hunan Province
Huadu Light Industry Co., Ltd.
Huanyu Hardware Tools Factory
Hubei Province Manufactory of Export Agricultural Tools
Hunan Xinyu Native Produce and Animal By-Products Import & Export Ltd.
JY International Corp.
JB International Trading Co., Ltd.
Jiangsu Guotai International Group HUATAI Imp. & Exp. Co., Ltd.
Jiangsu Hongbao Group Co., Ltd.
Jiangsu Jurong Tools Factory
Jiangsu Tongrun M & E Group Import & Export Co., Ltd.
Jinhua Runua Foreign Trade Co., Ltd.
Jinhua Twin Star Tools Corporation Limited
Liawu
Laoling Pangu Tools
Laoling Zhengtai
Liaoning Machinery Import and Export Corp. (LMC)
LIMAC
Linshu Goldstar Group Co., Ltd.
Linshu Jinrun Ironware & Tools Co., Ltd.
Linyi Guoxin Tools Co., Ltd.
Longcheng Tools Group
Longway Tools Company, Ltd.
Maofa
Ningbo Feiyuan International Trade Co., Ltd.
Ningbo Tiangong Tools Company, Ltd.
Ningbo Tiger Handware Manufacture Co.
Pangu Tools Co., Ltd.
Remein
Saintly International Group Jiangsu Machinery Import & Export Corp., Ltd.
Shaanxi Machinery I/E Corp Sunway Engineering Supply Co.
Shandong Furun Co., Ltd.
Shandong Huarong General Group Corp (Huarong)
Shandong Jinma Industrial Group Company (Jinma)
Shandong Junan Jinli Tool Co.
Shandong Laoling Tools Factory
Shandong Linyi Huanyu Hartware Tools
Shandong Machinery Import & Export Corp Hangzhou Office
Shandong Machinery Import and Export Corporation (SMC)
Shandong Pangu Tools Co, Ltd. (Laoling Pangu)
Shandong Rizhao Import & Export Corp.
Shandong Technical Import and Export Corporation
Shanghai Founder Co., Ltd.
Shanghai J.E. Tools
Shanghai Tongrun Import & Export Co., Ltd.
Shenzhen Orbit Industrial Development Co., Ltd.
Shenzhen Sino-Tech Enterprise Development Co., Ltd.
Stanley (Zhongshan) Hardware Co., Ltd.
Sun-Rain Stationery & Gifts Co., Ltd.
Taian Foreign Trading General Corp.
Technology Import & Export Corp.
Tianjin Machinery Imp & Exp Group
Tianjin Machinery Import and Export Corporation (TMC)
TRTOOLS
Wuxi Honghong Trade Co.
Xian Zenith
Xuzhou Golden Tiger Tools Making Co., Ltd.
Yansheng International Trade Co., Ltd.
Yee Hing Industry Co.
Yongkang Tianfang Trade & Industry Co., Ltd.
Yongkang Zhiying Xindong Stainless Steel Appliance Factory
Zhangjiagang Free Trade Zone Tianrui Int'l Trade Co., Ltd.
Zhejian Yongkang Bugao Hardware Tools Manufacture Co., Ltd.
Zhejiang Shaoxing Hardware's Tools Factory
Zhejiang Yongkang Bugao Hardware & Tools Manufacture Co.
Zhejiang Yongkang Jinchui Tools Co., Ltd.
Zhejiang Yongkang Steel Magnesium Co., Ltd.
Zhejiang Yongkang Zhengfa Mechanical Manufacturing Company
Zhenkiang All Joy Light Industrial Products & Textiles Import & Export Co., Ltd.
Zhenjiang Foreign Trade Group Corp.
Zibo International Economic and Technical Coop. Corp.
The People's Republic of China: Picks/mattocks*—A-570-803 | 2/1/02-1/31/03
Fujian Machinery & Equipment Import & Export Corp.
Liaoning Machinery Import & Export Corp.
Shandong Huarong General Group Corp
Shandong Jinma Industrial Group Company
Shandong Machinery Import & Export Corp.
Tianjin Machinery Import & Export Corp.
* If one of the above named companies does not qualify for a separate rate, all other exporters of certain heavy forged hand tools from the People's Republic of China who have not qualified for a separate rate are deemed to be covered by this review as part of a single PRC entity of which the named exporters are a part.
The People's Republic of China: Certain Preserved Mushrooms ¹—A-570-851 | 2/1/02-2/31/03
China Processed Food Import & Export Co.
Gerber Food (Yunnan) Co., Ltd.
Green Fresh Foods (Zhangzhou) Co., Ltd.
Guangxi Yulin Oriental Food Co., Ltd.
Raoping Xingyu Foods Co., Ltd.
Shantou Hongda Industrial General Corporation
Shenxian Dongxing Foods Co., Ltd.
Shenzhen Qunxingyuan Trading Co., Ltd.
Xiamen Zhongjia Imp. & Exp. Co., Ltd.
Zhangzhou Jingxiang Foods Co., Ltd.
Zhangzhou Longhai Minhui Industry and Trade Co., Ltd.
The People's Republic of China: Creatine ²—A-570-852 | 2/1/02-1/31/03
Suzhou Sanjian Nutrient & Health Products Co., Ltd.
The People's Republic of China: Potassium Permanganate ³—A-570-001 | 1/1/02-12/31/02
Groupstars Chemicals Co., Ltd. (Shandong) **
Groupstars Chemicals Co., Ltd. (Yunnan) **
Yunnan Jianshui County Chemical Industry Factory**
Jianshui Chemical Plant (also translated as Jianshui Chemical
Factory and Jianshui General Chemical Plant)**
** Inadvertently omitted from previous notice.
Countervailing Duty Proceedings
France: Low Enriched Uranium—C-427-819 | 5/14/01-12/31/02
Eurodif S.A.
Germany: Low Enriched Uranium—
C-428-829 | 5/14/01-12/31/02
Urenco Deutdschland GmbH
Republic of Korea: Certain Cut-to-Length Carbon-Quality Steel Plate—C-580-837 | 1/1/02-12/31/02
Dongkuk Steel Mill Co., Ltd.
KISCO—Korea Iron & Steel Co., Ltd.
Union Steel Manufacturing Co.
The Netherlands: Low Enriched Uranium—C-421-809 | 5/14/01-12/31/02
Urenco Nederland BV
United Kingdom: Low Enriched Uranium—
C-412-821 | 5/14/01-12/31/02
Urenco (Capenhurst) Ltd.
Suspension Agreements
None.
¹ If one of the above named companies does not qualify for a separate rate, all other exporters of certain preserved mushrooms from the People's Republic of China who have not qualified for a separate rate are deemed to be covered by this review as part of the single PRC entity of which the named exporters are a part.
² If the above named company does not qualify for a separate rate, all other exporters of creatine from the People's Republic of China who have not qualified for a separate rate are deemed to be covered by this review as part of the single PRC entity of which the named exporter is a part.
³ If one of the above named companies does not qualify for a separate rate, all other exporters of potassium permanganate from the People's Republic of China who have not qualified for a separate rate are deemed to be covered by this review as part of the single PRC entity of which the named exporters are a part.

During any administrative review covering all or part of a period falling between the first and second or third and fourth anniversary of the publication of an antidumping duty order under § 351.211 or a determination under § 351.218(f)(4) to continue an order or suspended investigation (after sunset review), the Secretary, if requested by a domestic interested party within 30 days of the date of publication of the notice of initiation of the review, will determine whether antidumping duties have been absorbed by an exporter or producer subject to the review if the subject merchandise is sold in the United States through an importer that is affiliated with such exporter or producer. The request must include the name(s) of the exporter or producer for which the inquiry is requested.

Interested parties must submit applications for disclosure under administrative protective orders in accordance with 19 CFR 351.305.

These initiations and this notice are in accordance with section 751(a) of the Tariff Act of 1930, as amended (19 U.S.C. 1675(a)), and 19 CFR 351.221(c)(1)(i).

Dated: March 18, 2003.
Thomas F. Futtner,
Acting Senior Office Director, Group II, Office 4, Import Administration.

[FR Doc. 03-7059 Filed 3-24-03; 8:45 am]

BILLING CODE 3510-DS-P